DEPARTMENT OF COMMERCE

International Trade Administration

[A-351-806]

Silicon Metal From Brazil: Final Results of Antidumping Duty Administrative Review and Revocation of Order in Part

AGENCY: Import Administration, International Trade Administration, Department of Commerce.

ACTION: Final Results of Antidumping Duty Administrative Review and Revocation of Order in Part.

SUMMARY: On July 28, 2003, the Department of Commerce (the Department) published the preliminary results of the administrative review of the antidumping duty order on silicon metal from Brazil. The period of review (POR) is July 1, 2001, through June 30, 2002. This review covers imports of silicon metal from one producer/exporter, Companhia Brasileira Carbureto de Calcio (CBCC). We provided interested parties an opportunity to comment on the preliminary results of this review, but received no comments.

The final results do not differ from the preliminary results of this review, where we found that sales of the subject merchandise have not been made below normal value (NV), and where we revoked the order, in part, with respect to CBCC, because we found that CBCC has met all of the requirements for revocation, as set forth in 19 C.F.R. 351.222(b). We will instruct the United States Bureau of Customs and Border Protection (BCBP) not to assess antidumping duties on the subject merchandise exported by CBCC.

EFFECTIVE DATE: October 6, 2003./P>

FOR FURTHER INFORMATION CONTACT: Maisha Cryor at (202) 482-5831 or Ronald Trentham at (202) 482-6320, AD/CVD Enforcement, Office IV, Group II, Import Administration, International Trade Administration, U.S. Department of Commerce, 14th Street and Constitution Avenue, N.W., Washington, D.C. 20230.

SUPPLEMENTARY INFORMATION:

Background

After the publication of the preliminary results of this administrative review,¹ the Department invited interested parties to comment on its preliminary findings. No comments were received.

¹ See Silicon Metal From Brazil: Preliminary Results of Antidumping Duty Administrative Review, Partial Rescission of Review and Notice of Intent To Revoke Order in Part, 68 FR 44285 (July 28, 2003) (Preliminary Results).

Scope of the Order

The merchandise covered by this administrative review is silicon metal from Brazil containing at least 96.00 percent but less than 99.99 percent silicon by weight. Also covered by this administrative review is silicon metal from Brazil containing between 89.00 and 96.00 percent silicon by weight but which contains more aluminum than the silicon metal containing at least 96.00 percent but less than 99.99 percent silicon by weight. Silicon metal is currently provided for under subheadings 2804.69.10 and 2804.69.50 of the Harmonized Tariff Schedule of the United States (HTSUS) as a chemical product, but is commonly referred to as a metal. Semiconductor grade silicon (silicon metal containing by weight not less than 99.99 percent silicon and provided for in subheading 2804.61.00 of the HTSUS) is not subject to the order. Although the HTSUS item numbers are provided for convenience and for customs purposes, the written description remains dispositive.

Period of Review

The POR is July 1, 2001, through June 30, 2002.

Fair Value Comparisons

To determine whether sales of silicon metal from Brazil to the United States were made at less than NV, we compared the constructed export price to NV. Our calculations followed the methodologies described in the Preliminary Results.

Revocation

The Department “may revoke, in whole or in part” an antidumping duty order upon completion of a review under section 751 of the Tariff Act of 1930, as amended (the Act). While Congress has not specified the procedures that the Department must follow in revoking an order, the Department has developed a procedure for revocation as described in 19 C.F.R. 351.222. This regulation requires, inter alia, that a company requesting revocation must submit the following: (1) a certification that the company has sold the subject merchandise at not less than NV in the current review period and that the company will not sell at less than NV in the future; (2) a certification that the company sold the subject merchandise in commercial quantities in each of the three years forming the basis of the revocation request; and (3) an agreement to reinstatement in the order or suspended investigation, as long as any exporter or producer is subject to the order (or suspended investigation), if the Secretary concludes that the exporter or producer, subsequent to the revocation, sold the subject merchandise at less than NV. See 19 C.F.R. 351.222(e)(1). Upon receipt of such a request, the Department will consider the following in determining whether to revoke the order in part: (1) whether the producer or exporter requesting revocation has sold subject merchandise at not less than NV for a period of at least three consecutive years; (2) whether the continued application of the antidumping duty order is otherwise necessary to offset dumping; and (3) whether the producer or exporter requesting revocation in part has agreed in writing to the immediate reinstatement of the order, as long as any exporter or producer is subject to the order, if the Department concludes that the exporter or producer, subsequent to revocation, sold the subject merchandise at less than NV. See 19 C.F.R. 351.222(b)(2); see also Silicon Metal from Brazil; Final Results of Antidumping Duty Administrative Review and Revocation of Order in Part, 67 FR 77225, 77226 (December 17, 2002).

I. CBCC: Determination to Revoke Order in Part

In the preliminary results, we determined that CBCC has met the requirements for revocation. See Preliminary Results, 68 FR at 44286-87 (July 28, 2003). We received no comments from either the petitioners or CBCC on this revocation determination. Therefore, we continue to find that CBCC has met the requirements for revocation. Specifically, we find that (1) CBCC has demonstrated three consecutive years of sales at not less than NV; (2) CBCC's aggregate sales to the United States were made in commercial quantities during each of those three years (see Preliminary Results, 68 FR at 44287 (July 28, 2003)), and (3) the continued application of the antidumping order is not necessary to offset dumping. Therefore, for the final results, we find that CBCC qualifies for revocation of the order on silicon metal from Brazil, under 19 C.F.R. 351.222(b)(2).

Final Results of Review

As a result of this review, we determine that the following percentage weighted-average margin exists for the period July 1, 2001, through June 30, 2002:

Manufacturer/exporter | Weighted-average Margin Percentage
CBCC | 0.00

Effective Date of Revocation

This revocation applies to all entries of subject merchandise that are produced and exported by CBCC, entered, or withdrawn from warehouse, for consumption on or after July 1, 2002. The Department will order the suspension of liquidation ended for all such entries and will instruct the BCBP to release any cash deposits or bonds. The Department will further instruct the BCBP to refund with interest any cash deposits on entries made on or after July 1, 2002.

Assessment Rates

The Department will determine, and the BCBP shall assess, antidumping duties on all appropriate entries. In accordance with 19 C.F.R. 351.212(b)(1), we have calculated an importer-specific assessment rate for merchandise subject to this review. The Department will issue appropriate assessment instructions directly to the BCBP within 15 days of publication of these final results of review. We will direct the BCBP to assess the resulting assessment rates against the entered customs values for the subject merchandise on each of the importer's entries during the review period.

Cash Deposit Requirements

The following deposit requirements will be effective upon publication of this notice of final results of administrative review for all shipments of silicon metal from Brazil entered, or withdrawn from warehouse, for consumption on or after the date of publication, as provided by section 751(a)(1) of the Act: (1) cash deposits for CBCC will no longer be required; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 91.06 percent, the “all others” rate made effective by the LTFV investigation. The required cash deposits shall remain in effect until publication of the final results of the next administrative review.

Notification to Importers

This notice also serves as a final reminder to importers of their responsibility under 19 C.F.R. 351.402(f)(2) to file a certificate regarding the reimbursement of antidumping duties prior to liquidation of the relevant entries during this review period. Failure to comply with this requirement could result in the Secretary's presumption that reimbursement of antidumping duties occurred and the subsequent assessment of double antidumping duties.

Administrative Protective Orders

This notice also serves as the only reminder to parties subject to administrative protective orders (APOs) of their responsibility concerning the return or destruction of proprietary information disclosed under an APO in accordance with 19 C.F.R. 351.305. Timely written notification of the return/destruction of APO materials or conversion to judicial protective order is hereby requested. Failure to comply with the regulations and terms of an APO is a violation which is subject to sanction.

We are issuing and publishing this determination and notice in accordance with sections 751(a)(1) and 777(i) of the Act.

Dated: September 26, 2003.
James J. Jochum,
Assistant Secretary for Import Administration.

[FR Doc. 03-25280 Filed 10-3-03; 8:45 am]

BILLING CODE 3510-DS-S